DEPARTMENT OF ENERGY

Federal Energy Regulatory Commission

Combined Notice of Filings

Take notice that the Commission has received the following Natural Gas Pipeline Rate and Refund Report filings:

Docket Numbers: CP20-530-000.

Applicants: Southern Natural Gas Company, L.L.C.

Description: Application for Authorization of Abandonment for Rate Schedules X-70 and X-233 of Southern Natural Gas Company, L.L.C.

Filed Date: 9/29/20.

Accession Number: 20200929-5101.

Comments Due: 5 p.m. ET 10/20/20.

Docket Numbers: RP21-33-000.

Applicants: Rover Pipeline LLC.

Description: § 4(d) Rate Filing: Summary of Negotiated Rate Capacity Release Agreements on 10-2-20 to be effective 10/1/2020.

Filed Date: 10/2/20.

Accession Number: 20201002-5009.

Comments Due: 5 p.m. ET 10/14/20.

Docket Numbers: RP21-34-000.

Applicants: Transcontinental Gas Pipe Line Company, LLC.

Description: Request for Limited Waiver of Transcontinental Gas Pipe Line Company, LLC under RP21-34.

Filed Date: 10/1/20.

Accession Number: 20201001-5329.

Comments Due: 5 p.m. ET 10/13/20.

Docket Numbers: RP21-35-000.

Applicants: Gulf South Pipeline Company, LLC.

Description: § 4(d) Rate Filing: Cap Rel Neg Rate Agmt (Aethon United 52454 to Scona 53157) to be effective 10/1/2020.

Filed Date: 10/2/20.

Accession Number: 20201002-5102.

Comments Due: 5 p.m. ET 10/14/20.

Docket Numbers: RP21-36-000.

Applicants: ANR Pipeline Company, Columbia Gas Transmission, LLC, Columbia Gulf Transmission, LLC.

Description: Joint Petition for Limited Waiver, et al. of ANR Pipeline Company, et al. under RP21-36.

Filed Date: 10/2/20.

Accession Number: 20201002-5198.

Comments Due: 5 p.m. ET 10/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2020.
Nathaniel J. Davis, Sr.,
Deputy Secretary.

[FR Doc. 2020-22451 Filed 10-8-20; 8:45 am]

BILLING CODE 6717-01-P